DEPARTMENT OF COMMERCE

National Oceanic and Atmospheric Administration

[I.D. 052703C]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Committee (SSC), a joint meeting of its SSC and Snapper Grouper Committee, a meeting of its Snapper Grouper Committee, and a joint meeting of its Mackerel Committee and Advisory Panel. In addition, two public hearings will be held as part of the meeting: (1) Regarding Snapper Grouper Amendment 13A addressing the Oculina Experimental Closed Area and, (2) the Gulf of Mexico Council's Regulatory Amendment to the Fishery Management Plan for Coastal Migratory Pelagics (Mackerel FMP) and other possible framework actions in the south Atlantic. Additional public comment periods will be held on these issues during the meeting week. There will also be a full Council Session.

DATES: The meetings will be held in June 2003. See SUPPLEMENTARY INFORMATION for specific dates and times.

ADDRESSES: The meetings will be held at the Hilton CocoaBeach Oceanfront Hotel, 1550 North Atlantic Avenue, Cocoa Beach, FL 32931; telephone: (1-800) 526-2609 or (321) 799-0003.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. Scientific and Statistical Committee (SSC) Meeting: June 16, 2003, 1:30 p.m.- 5 p.m.

The Scientific and Statistical Committee will receive a report on the results of the Subcommittee meeting on the red porgy, vermilion snapper & black sea bass stock assessments and discuss and develop recommendations for the Council. In addition, the Committee will receive a presentation on mackerel stock assessments and develop recommendations regarding those assessments.

Note: A public hearing will be held as part of the meeting on Monday, June 16, 2003 at 6 p.m. regarding Amendment 13A to the Snapper Grouper Fishery Management Plan. This Amendment addresses options pertaining to the Oculina Experimental Close Area off the central East Coast of Florida. Copies of the public hearing document can be obtained at the Council office or on the Council's web site at www.safmc.net.

2. Joint Snapper Grouper Committee and SSC Meeting: June 17, 2003, 8:30 a.m. until 12 noon.

During the joint meeting, the Committee and SSC will discuss and develop recommendations for the Council on Amendment 13A to the Snapper Grouper Fishery Management Plan. The Committee will also discuss the red porgy, vermilion snapper and black sea bass stock assessments and a program to fill data gaps in the assessments. Additionally, the Committee will discuss and develop recommendations for the Southeastern Data Assessment and Review (SEDAR) process.

3. Snapper Grouper Committee: June 17, 2003, 1:30 p.m. 5 p.m. and June 18, 2003, from 8:30 a.m. until 12 noon.

The Committee will review Snapper Grouper Amendments 13A regarding the Oculina Experimental Closed Area and develop recommendations to the Council. The Committee will then review material from NOAA Fisheries regarding Sustainable Fisheries Act (SFA) requirements and make recommendations to the Council for the draft version of Amendment 13B to the Snapper Grouper Fishery Management Plan that includes options to address mandates outlined in the SFA. The Committee will also receive an update on the status of the development of Amendment 14 to the Snapper Grouper Fishery Management Plan regarding the use of Marine Protected Areas as a fishery management tool.

4. Joint King & Spanish Mackerel Committee and Advisory Panel Meeting: June 18, 2003, 1:30 p.m. until 5 p.m. and June 19, 2003 from 8:30 a.m. until 12 noon.

The Mackerel Committee will meet jointly with the Advisory Panel to receive an overview of the Mackerel Stock Assessment, review comments from the Scientific and Statistical Committee and develop framework recommendations.

Note: On June 19, 2003, beginning at 8:30 a.m., the Council will hold a public hearing on the Gulf of Mexico Council's Regulatory Amendment to the Fishery Management Plan for Coastal Migratory Pelagic Resources of the Gulf of Mexico and South Atlantic and any other framework action(s) proposed by the South Atlantic Fishery Management Council.

Following the public hearing, the Committee and Advisory Panel will review the Gulf Council's Regulatory Amendment as well as comments from NOAA Fisheries, the SSC and the public. During the meeting the Committee and AP will develop recommendations for the Council to consider. In addition, they will begin to develop the Mackerel Amendment 15 scoping document and modify as needed.

5. Council Session: June 19, 2003, 1:30 p.m. 5:30 p.m.

From 1:30 p.m.—1:45 p.m., the Council will have a Call to Order, introductions and roll call, adoption of the agenda, and approval of the March 2003 meeting minutes.

From 1:45 p.m.—2:15 p.m., the Council will conduct an election for Vice-Chairman and have presentations.

From 2:15 p.m.—4:15 p.m., The Council will hear a report from the Snapper Grouper Committee. Beginning at 2:15 p.m., a public comment period will be held for Snapper Grouper Amendment 13A. Following public comment, the Council will approve Amendment 13A.

From 4:15 p.m.—5:30 p.m., The Council will hear a report from the Mackerel Committee. Beginning at 4:15 p.m., a public comment period will be held on the Gulf of Mexico Council's Regulatory Amendment for the Fishery Management Plan for Coastal Migratory Pelagic Resources of the Gulf of Mexico and South Atlantic (Mackerel FMP). Following the public comment period, the Council will take action on the Gulf Council's Regulatory Amendment. In addition, the Council will take any necessary framework actions for the south Atlantic.

6. Council Session: June 20, 2003, 8:30 a.m.—12 noon

From 8:30 a.m.—9:30 a.m., the Council will receive legal briefing on litigation affecting the Council (CLOSED SESSION).

From 9:30 a.m.—10 a.m., the Council will receive a report on the project, “Identifying Fishery Dependent Communities in the South Atlantic."

From 10 a.m.—10:30 a.m., the Council will hear a report regarding the Joint Information and Education Committee and Advisory Panel Meeting.

From 10:30 a.m. 10:45 a.m., the Council will receive a report on the Council Chairman's meeting.

From 10:45 a.m.—11:15 a.m., the Council will hear NOAA Fisheries status reports on Shrimp Amendment 5 implementation, the Sargassum FMP, the Dolphin Wahoo FMP, the SEDAR Committee Process, Operations Plan and implementation of the Atlantic Coast Cooperative Statistics Program (ACCSP) implementation. NOAA Fisheries will also give status reports on landings for Atlantic king mackerel, Gulf king mackerel (eastern zone), Atlantic Spanish mackerel, snowy grouper & golden tilefish, wreckfish, greater amberjack and south Atlantic octocorals.

From 11:15 a.m.—12 noon, the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by June 12, 2003.

Dated: May 28, 2003.
Richard W. Surdi,
Acting Director, Office of Sustainable Fisheries, National Marine Fisheries Service.

[FR Doc. 03-13728 Filed 5-30-03; 8:45 am]

BILLING CODE 3510-22-S